DEPARTMENT OF ENERGY

Federal Energy Regulatory Commission

Combined Notice of Filings #1

Take notice that the Commission received the following electric rate filings:

Docket Numbers: ER22-1546-001.

Applicants: Tampa Electric Company.

Description: Compliance filing: Order No. 881 Compliance Filing to be effective N/A.

Filed Date: 4/11/25.

Accession Number: 20250411-5112.

Comment Date: 5 p.m. ET 5/2/25.

Docket Numbers: ER22-2360-000.

Applicants: Tri-State Generation and Transmission Association, Inc.

Description: Motion for Deferral of the Effective Date for the Open Access Transmission Tariff revisions of Tri-State Generation and Transmission Association, Inc.

Filed Date: 3/21/25.

Accession Number: 20250321-5101.

Comment Date: 5 p.m. ET 4/25/25.

Docket Numbers: ER25-1128-001.

Applicants: PJM Interconnection, L.L.C.

Description: Tariff Amendment: Response to Deficiency—Replacement Generation Interconnection Service to be effective 12/31/9998.

Filed Date: 4/11/25.

Accession Number: 20250411-5180.

Comment Date: 5 p.m. ET 5/2/25.

Docket Numbers: ER25-1448-001.

Applicants: Entergy Louisiana, LLC.

Description: Tariff Amendment: ELL-Lafayette Amended System Interconnection Agreement to be effective 5/1/2025.

Filed Date: 4/11/25.

Accession Number: 20250411-5181.

Comment Date: 5 p.m. ET 5/2/25.

Docket Numbers: ER25-1930-000.

Applicants: Virginia Electric and Power Company.

Description: § 205(d) Rate Filing: Virginia Electric and Power submits revisions to OATT Attachment H16-C to be effective 6/13/2025.

Filed Date: 4/11/25.

Accession Number: 20250411-5001.

Comment Date: 5 p.m. ET 5/2/25.

Docket Numbers: ER25-1931-000.

Applicants: New York Independent System Operator, Inc.

Description: Request for waiver of New York Independent System Operator, Inc.

Filed Date: 4/10/25.

Accession Number: 20250410-5214.

Comment Date: 5 p.m. ET 5/1/25.

Docket Numbers: ER25-1932-000.

Applicants: Puget Sound Energy, Inc.

Description: § 205(d) Rate Filing: Gold Bar IA with SnoPUD to be effective 5/16/2025.

Filed Date: 4/11/25.

Accession Number: 20250411-5068.

Comment Date: 5 p.m. ET 5/2/25.

Docket Numbers: ER25-1933-000.

Applicants: ITC Energy Solutions LLC.

Description: § 205(d) Rate Filing: Filing of Facilities Service Agreement and Request for Waiver to be effective 6/11/2025.

Filed Date: 4/11/25.

Accession Number: 20250411-5073.

Comment Date: 5 p.m. ET 5/2/25.

Docket Numbers: ER25-1934-000.

Applicants: Duke Energy Florida, LLC, Duke Energy Carolinas, LLC.

Description: § 205(d) Rate Filing: Duke Energy Carolinas, LLC submits tariff filing per 35.13(a)(2)(iii: DEF—Annual Update of Real Power Loss Factors (2025) to be effective 5/1/2025.

Filed Date: 4/11/25.

Accession Number: 20250411-5087.

Comment Date: 5 p.m. ET 5/2/25.

Docket Numbers: ER25-1935-000.

Applicants: Midcontinent Independent System Operator, Inc.

Description: § 205(d) Rate Filing: 2025-04-11_SA 3916 Termination of Ameren-Lotus Wind E&P (J1289) to be effective 4/12/2025.

Filed Date: 4/11/25.

Accession Number: 20250411-5116.

Comment Date: 5 p.m. ET 5/2/25.

Docket Numbers: ER25-1936-000.

Applicants: Midcontinent Independent System Operator, Inc.

Description: § 205(d) Rate Filing: 2025-04-11_SA 3926 Termination of METC-Branch Solar E&P (J1550) to be effective 4/12/2025.

Filed Date: 4/11/25.

Accession Number: 20250411-5126.

Comment Date: 5 p.m. ET 5/2/25.

Docket Numbers: ER25-1937-000.

Applicants: PJM Interconnection, L.L.C.

Description: § 205(d) Rate Filing: Ministerial Clean-Up Filing to Operating Agreement, Schedule 6, Section 1.5 to be effective 8/28/2024.

Filed Date: 4/11/25.

Accession Number: 20250411-5130.

Comment Date: 5 p.m. ET 5/2/25.

Docket Numbers: ER25-1938-000.

Applicants: MidAmerican Central California Transco, LLC.

Description: Tariff Amendment: Cancellation of Tariff and Database to be effective 4/12/2025.

Filed Date: 4/11/25.

Accession Number: 20250411-5141.

Comment Date: 5 p.m. ET 5/2/25.

Docket Numbers: ER25-1939-000.

Applicants: LRE Interconnection Manager, LLC.

Description: § 205(d) Rate Filing: Shared Facilities Common Ownership Agreement to be effective 4/12/2025.

Filed Date: 4/11/25.

Accession Number: 20250411-5144.

Comment Date: 5 p.m. ET 5/2/25.

Docket Numbers: ER25-1940-000.

Applicants: Blackford Wind Energy, LLC.

Description: Initial Rate Filing: Certificate of Concurrence to Shared Facilities Common Ownership Agreement to be effective 4/12/2025.

Filed Date: 4/11/25.

Accession Number: 20250411-5164.

Comment Date: 5 p.m. ET 5/2/25.

Docket Numbers: ER25-1941-000.

Applicants: PJM Interconnection, L.L.C.

Description: § 205(d) Rate Filing: Original GIA, Service Agreement No. 7630; AD2-067/AG1-024/AG1-034 to be effective 3/12/2025.

Filed Date: 4/11/25.

Accession Number: 20250411-5171.

Comment Date: 5 p.m. ET 5/2/25.

Docket Numbers: ER25-1942-000.

Applicants: PJM Interconnection, L.L.C.

Description: § 205(d) Rate Filing: Original GIA, Service Agreement No. 7627; AG1-107/AF2-440 to be effective 3/12/2025.

Filed Date: 4/11/25.

Accession Number: 20250411-5184.

Comment Date: 5 p.m. ET 5/2/25.

Docket Numbers: ER25-1943-000.

Applicants: Entergy Gulf States Louisiana, L.L.C.

Description: Tariff Amendment: ELL-Lafayette System Interconnection Agmt Cancellation to be effective 5/1/2025.

Filed Date: 4/11/25.

Accession Number: 20250411-5185.

Comment Date: 5 p.m. ET 5/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 11, 2025.
Debbie Anne A. Reese,
Secretary.

[FR Doc. 2025-06616 Filed 4-16-25; 8:45 am]

BILLING CODE 6717-01-P